DEPARTMENT OF AGRICULTURE

Office of the Secretary

7 CFR Part 2

Revision of Delegations of Authority

AGENCY: Rural Utilities Service; Rural Housing Service, USDA.

ACTION: Final rule.

SUMMARY: This final rule revises the delegations of authority from the Under Secretary for Rural Development. This rule will effectuate the change of the delegation of the administration of the hazardous weather early warning systems program, from the Administrator, Rural Housing Service (RHS), to the Administrator, Rural Utilities Service (RUS).

EFFECTIVE DATE: March 27, 2001.

FOR FURTHER INFORMATION CONTACT: F. Lamont Heppe, Jr., Director, Program Development and Regulatory Analysis, Rural Utilities Service, U.S. Department of Agriculture, Stop 1522, 1400 Independence Ave., SW, Washington, DC, 20250-1522. Telephone: 202-720-9551. E-mail: fheppe@rus.usda.gov.

SUPPLEMENTARY INFORMATION: The Administration and Congress recognize the need to advance coverage of the NOAA Weather Radio and Alert Systems in unserved rural areas. The Administration requested, and Congress appropriated funds for this program, under section 306 of the Consolidated Farm and Rural Development Act (7 U.S.C. 1926). It has been determined that the hazardous weather early warning systems and the grant funds appropriated therefor should be administered by the Rural Utilities Service (RUS), in accordance with the authorizing legislation.

This rule relates to internal agency management. Therefore, pursuant to 5 U.S.C. 553, notice of proposed rule making and opportunity for comment are not required, and this rule is made effective on the date of publication in the Federal Register. Further, since this rule relates to internal agency management, it is exempt from the provisions of Executive Order Nos. 12866 and 12988. In addition, this action is not a rule as defined by the Regulatory Flexibility Act (5 U.S.C. 601 et seq.), and, thus, is exempt from the provisions of that Act. This action is not a rule as defined in 5 U.S.C. 804 and thus does not require review by Congress.

List of Subjects in 7 CFR Part 2

Authority delegations (Government agencies).

PART 2—DELEGATIONS OF AUTHORITY BY THE SECRETARY OF AGRICULTURE AND GENERAL OFFICERS OF THE DEPARTMENT

Accordingly, part 2, title 7, Code of Federal Regulations, is amended as follows:

1. The authority citation for part 2 is revised to read as follows:

Authority: 7 U.S.C. 6912(a)(1); 5 U.S.C. 301; Reorganization Plan No. 2 of 1953, 3 CFR 1949-1953 Comp., p. 1024.

Subpart G—Delegation of Authority by the Under Secretary for Rural Economic and Community Development

2. Amend § 2.47 to redesignate paragraphs (a)(4)(vi) through (a)(4)(x) as (a)(4)(vii) through (a)(4)(xi) and add a new paragraph (a)(4)(vi) to read as follows:

§ 2.47 Administrator, Rural Utilities Service.

(a) * * *

(4) * * *

(vi) Section 306 (7 U.S.C. 1926) relating to hazardous weather early warning systems;

* * * * *

3. Amend § 2.49 to revise paragraph (a)(1)(i) to read as follows:

§ 2.49 Administrator, Rural Housing Service.

(a) * * *

(1) * * *

(i) Section 306 (7 U.S.C. 1926) except subsection 306(a)(11) and except financing for water and waste disposal facilities; hazardous weather early warning systems; grazing facilities; irrigation and drainage facilities; rural electrification or telephone systems or facilities; and hydro-electric generating and related distribution systems and supplemental and supporting structures if they are eligible for Rural Utilities financing;

* * * * *

Dated: March 18, 2001.
Ann M. Veneman,
Secretary of Agriculture.

[FR Doc. 01-7388 Filed 3-26-01; 8:45 am]

BILLING CODE 3410-15-P